DEPARTMENT OF ENERGY

Federal Energy Regulatory Commission

[Docket No. EL08-86-000]

Renewable Energy Systems Americas Inc. and PEAK Wind Development, LLC, Complainants, v. Otter Tail Power Company and Minnkota Power Cooperative, Inc., Respondents; Notice of Complaint

September 2, 2008.

Take notice that on August 29, 2008, pursuant to sections 206 and 212 of the Rules of Practice and Procedure, 18 CFR 385.206 and 385.212 and section 206 of the Federal Power Act, 16 U.S.C. 824e (1994), Renewable Energy Systems Americas Inc. and PEAK Wind Development, LLC (Complainants) filed a formal complaint against Otter Tail Power Company and Minnkota Power Cooperative, Inc. (Respondents) alleging that (1) the Respondents are building a 60-mile, 230 kV transmission line connecting Otter Tail's wind generation project to Minnkota's transmission system thereby “jumping over” Complainants’ prior-queued interconnection request; (2) Minnkota has denied access to the transmission line; (3) and energy from the wind being constructed by Otter Tail and its generation partner will overload transmission facilities operated by the Midwest Independent Transmission System Operator, Inc. but Otter Tail and its generation partner are not accepting responsibility for the necessary physical upgrades, thereby threatening reliability. Complainants seek relief from the undue preference afforded Otter Tail's generation project, the undue discrimination against Complainants’ generation project, and the Respondents' failure to comply with open access transmission requirements.

The Complainants state that a copy of the complaint has been served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 18, 2008.

Kimberly D. Bose,
Secretary.

[FR Doc. E8-20802 Filed 9-8-08; 8:45 am]

BILLING CODE 6717-01-P